DEPARTMENT OF HEALTH AND HUMAN SERVICES

Renewal of the President's Council on Sports, Fitness & Nutrition's Charter

AGENCY: Office of Disease Prevention and Health Promotion, Office of the Assistant Secretary for Health, Office of the Secretary, Department of Health and Human Services.

ACTION: Notice.

SUMMARY: The U.S. Department of Health and Human Services (HHS) is hereby giving notice that the charter for the President's Council on Sports, Fitness & Nutrition (hereafter referred to as the Council) has been renewed.

DATES: On May 16, 2022, the Secretary of Health and Human Services approved the renewal of the Council's charter. The new charter was executed and filed with the appropriate Congressional committees and the Library of Congress on May 17, 2022. The renewal of the Council's charter gives the Council authorization to operate until May 15, 2024.

ADDRESSES: A copy of the Council's charter is available on the Council's website at: https://health.gov/our-work/nutrition-physical-activity/presidents-council/about-pcsfn/executive-order.

FOR FURTHER INFORMATION CONTACT: Rachel Fisher, Designated Federal Officer, U.S. Department of Health and Human Services, Office of Disease Prevention and Health Promotion; 1101 Wootton Parkway, Suite 420, Rockville, Maryland 20852, Phone (240) 453-8257.

Additional information is available on the Council's website at: https://health.gov/our-work/nutrition-physical-activity/presidents-council.

SUPPLEMENTARY INFORMATION: Functioning as a federal advisory committee, the Council is governed by the provisions of the Federal Advisory Committee Act (FACA). FACA stipulates that the charter for a federal advisory committee must be renewed every two years. The most recent Executive Order 14048, dated September 30, 2021, provides for the work of the Council to include a focus on expanding national awareness of the importance of mental health as it pertains to physical fitness and nutrition. To reflect the changes to the Council's scope under Executive Order 14048, the Charter has been amended and renewed.

The Council is charged with advising the President, through the Secretary of Health and Human Services (Secretary), concerning progress made in carrying out the provisions of Executive Order 13265, as amended, as further amended by Executive Order 14048, which aims to expand and encourage youth sports participation and to promote the overall physical fitness, health, and nutrition of all Americans. The Council promotes this goal through external outreach, raising public awareness, and recommending to the President, through the Secretary, actions to accelerate such progress. Executive Order 14048 directs the Secretary to carry out the responsibilities for public health and human services, and to continue to promulgate a national strategy (the National Youth Sports Strategy) to expand children's participation in youth sports, encourage regular physical activity, including active play, and promote good nutrition for all Americans. Executive Order 14048 also directs the Secretary to expand national awareness of the importance of mental health as it pertains to physical fitness and nutrition and to share information about the positive effects of physical activity on mental health, particularly as it relates to children and adolescents, to combat the negative mental health impacts of the coronavirus disease 2019 (COVID-19) pandemic.

Paul Reed,
Rear Admiral (L), U.S. Public Health Services, Office of the Assistant Secretary for Health, U.S. Department of Health and Human Services.

[FR Doc. 2022-12436 Filed 6-8-22; 8:45 am]

BILLING CODE 4150-32-P